DEPARTMENT OF COMMERCE

International Trade Administration

Withdrawal of Application for Duty-Free Entry of Scientific Instruments

Applications may be examined between 8:30 a.m. and 5 p.m. in Room 3720, Statutory Import Programs Staff, U.S. Department of Commerce 14th and Constitution Ave., NW., Room 2104 Washington, DC 20230.

Docket Number: 11-041. Applicant: Washington University, 660 South Euclid Avenue, Saint Louis, MO 63110-1093. Instrument: Transmission electron microscope. Manufacturer: JEOL Ltd., Japan. Intended Use: See notice at 76 FR 43263, July 20, 2011.

Pursuant to Section 6(c) of the Educational, Scientific and Cultural Materials Importation Act of 1966 (Pub. L. 89-651; as amended by Pub. L. 106-36; 80 Stat. 897; 15 CFR part 301), the Department of Commerce and the Department of Homeland Security determine, inter alia, whether instruments of equivalent scientific value, for the purposes for which the instruments shown below are intended to be used, are being manufactured in the United States as well as whether the instrument or apparatus is for the exclusive use of the applicant institution and is not intended to be used for commercial purposes.

On August 16, 2011, Washington University officials notified the Department that they wished to withdraw the above-referenced application for duty-free entry of a scientific instrument. They noted that the instrument will be cleared through Customs with duty paid by the vendor in order to meet a scheduling requirement. As noted in the regulations at section 301.5(g), the Department of Commerce shall discontinue processing an application when a request has been made by the applicant to withdraw the application. Therefore, the Department of Commerce has discontinued the processing of this application, in accordance with section 301.5(g) of the regulations. See 15 CFR 301.5(g).

Dated: August 18, 2011.
Gregory W. Campbell,
Director, Subsidies Enforcement Office, Import Administration.

[FR Doc. 2011-21671 Filed 8-23-11; 8:45 am]

BILLING CODE 3510-DS-P